DEPARTMENT OF COMMERCE

National Oceanic and Atmospheric Administration

[I.D. 080201D]

Marine Mammals; File No. 1007-1629

AGENCY: National Marine Fisheries Service (NMFS), National Oceanic and Atmospheric Administration (NOAA), Commerce.

ACTION: Issuance of permit.

SUMMARY: Notice is hereby given that Leszek Karczmarski, Ph.D., Marine Mammal Research Program, Texas A&M University, 4700 Avenue U, Building 303, Galveston, Texas 77551, has been issued a permit to take Hawaiian spinner dolphins (Stenella longirostris) for purposes of scientific research.

DATES: Written or telefaxed comments must be received on or before September 12, 2001.

ADDRESSES: The permit and related documents are available for review upon written request or by appointment in the following office(s):

Permits and Documentation Division, Office of Protected Resources, NMFS, 1315 East-West Highway, Room 13705, Silver Spring, MD 20910; phone (301) 713-2289; fax (301) 713-0376;

Protected Species, Pacific Islands Area Office, NMFS, 1601 Kapiolani Blvd., Room 1110, Honolulu, HI 96814-4700; phone (808) 973-2935; fax (808) 973-2941; and

Southwest Region, NMFS, 501 West Ocean Blvd., Suite 4200, Long Beach, CA 90802-4213; phone (562) 980-4001; fax (562) 980-4018.

FOR FURTHER INFORMATION CONTACT: Jill Lewandowski, Trevor Spradlin or Lynne Barre, 301/713-2289.

SUPPLEMENTARY INFORMATION: On May 24, 2001, notice was published in the Federal Register (66 FR 28733) that a request for a scientific research permit to take Hawaiian spinner dolphins had been submitted by the above-named individual.

Specific research objectives include: (a) comparing population structure and social behavior; (b) assessing the genetic differences between the groups/populations in the three atolls and estimating the rate of gene flow; (c) determining intra- and inter-group associations and intra- and inter-sexual relationships; (d) assessing the effects of social behavior on genetic diversity and population structure relative to the geographic distance between the atolls; and (e) producing an evolutionary model of spinner dolphin social structure and mating system relative to habitat, where both ecological and social selective pressures are considered.

In meeting these research objectives, the applicant requested authorization to take 1,400 individual spinner dolphins annually by photo-identification and behavioral observation (both above and below water) and 400 individual spinner dolphins annually through the collection of genetic swab samples with a maximum of 700 swab samples collected over the course of the permit. The applicant also requests authorization to take additional individual spinner dolphins incidental to the above listed research activities.

The requested permit has been issued under the authority of the Marine Mammal Protection Act of 1972, as amended (16 U.S.C. 1361 et seq.) and the Regulations Governing the Taking and Importing of Marine Mammals (50 CFR part 216).

Issuance of this permit, as required by the ESA, was based on a finding that such permit (1) was applied for in good faith, (2) will not operate to the disadvantage of the endangered species which is the subject of this permit, and (3) is consistent with the purposes and policies set forth in section 2 of the ESA.

Dated: August 7, 2001.
Eugene T. Nitta,
Acting Chief, Permits and Documentation Division, Office of Protected Resources, National Marine Fisheries Service.

[FR Doc. 01-20283 Filed 8-10-01; 8:45 am]

BILLING CODE 3510-22-S